DEPARTMENT OF ENERGY

Federal Energy Regulatory Commission

18 CFR Part 35

[Docket No. RM01-8-010]

Revised Public Utility Filing Requirements for Electric Quarterly Reports

May 19, 2008.

AGENCY: Federal Energy Regulatory Commission.

ACTION: Notice seeking comments on proposed revisions to Electric Quarterly Report (EQR) data dictionary.

SUMMARY: In this notice, the Federal Energy Regulatory Commission (Commission) proposes to revise the EQR Data Dictionary to clarify the definition of Contract Commencement date. If adopted, this proposal will make reporting this information less burdensome and more accessible.

DATES: Comments on the proposal are due June 27, 2008.

ADDRESSES: You may submit comments on the proposal, identified by Docket No. RM01-8-010, by one of the following methods:

• Agency Web Site: http://www.ferc.gov. Follow the instructions for submitting comments via the eFiling link found in the Comment Procedures Section of the preamble.

• Mail: Commenters unable to file comments electronically must mail or hand deliver an original and 14 copies of their comments to the Federal Energy Regulatory Commission, Secretary of the Commission, 888 First Street, NE., Washington, DC 20426. Please refer to the Comment Procedures Section of the preamble for additional information on how to file paper comments.

FOR FURTHER INFORMATION CONTACT:

Michelle Veloso (Technical Information), Office of Enforcement, Federal Energy Regulatory Commission, 888 First Street, NE., Washington, DC 20426, (202) 502-8363.

Gary D. Cohen (Legal Information), Office of the General Counsel, Federal Energy Regulatory Commission, 888 First Street, NE., Washington, DC 20426, (202) 502-8321.

SUPPLEMENTARY INFROMATION: 1. The Commission is proposing to revise the Electric Quarterly Report (EQR) Data Dictionary to clarify the definition of Contract Commencement Date in Field 22.

Background

2. On April 25, 2002, the Commission issued Order No. 2001, a Final Rule establishing revised public utility filing requirements.¹ This rule revised the Commission's filing requirements to require companies subject to the Commission's regulations under section 205 of the Federal Power Act ² to file quarterly reports that: (1) Provide data identifying the utility on whose behalf the report is being filed (ID Data); (2) summarize pertinent data about the utility's currently effective contracts (Contract Data); and (3) summarize data about wholesale power sales the utility made during the reporting period (Transaction Data). The requirement to file EQRs replaced the requirement to file quarterly transaction reports summarizing a utility's market-based rate transactions and sales agreements that conformed to the utility's tariff.

¹ Revised Public Utility Filing Requirements, Order No. 2001, 67 FR 31043 (May 8, 2002), FERC Stats. & Regs. ¶ 31,127 (Apr. 25, 2002), reh'g denied, Order No. 2001-A, 100 FERC ¶ 61,074, reconsideration and clarification denied, Order No. 2001-B, 100 FERC ¶ 61,342, order directing filings, Order No. 2001-C, 101 FERC ¶ 61,314 (2002), Order No. 2001-D, order directing filings, 102 FERC 61,334, Order No. 2001-E, order refining filing requirements, 105 FERC ¶ 61,352 (2003), clarification order, Order No.2001-F, 106 FERC ¶ 61,060 (2004), order adopting EQR Data Dictionary, Order No. 2001-G, 120 FERC ¶ 61,270 (2007), order on reh'g and clarification, Order No. 2001-H, 121 FERC ¶ 61,289 (2007).

² 16 U.S.C. 824d.

3. In Order No. 2001, the Commission also adopted a new section in its regulations, 18 CFR 35.10b, which requires that the EQRs are to be prepared in conformance with the Commission's software and guidance posted and available from the Commission website. This obviates the need to revise 18 CFR 35.10b to implement revisions to the software and guidance. Since the issuance of Order No. 2001, as need has arisen, the Commission has issued orders to resolve questions raised by EQR users and has directed Staff to issue additional guidance.

4. On September 24, 2007, the Commission issued Order No. 2001-G, adopting an EQR Data Dictionary that collected in one document the definitions of certain terms and values used in filing EQR data (previously provided in Commission orders and in guidance materials posted at the Commission's website) and providing formal definitions for fields that were previously undefined. On December 20, 2007, the Commission issued Order No. 2001-H, which addressed a pending request for rehearing and clarifying the information to be reported in several EQR data fields.

5. In Order 2001-H, the Commission defined Contract Commencement Date, (Field 22 in the Contract Data section of the EQR), as:

The date the terms of the contract reported in the EQR were effective. If the terms reported in the Contract Data section of the EQR became effective or if service under those terms began on multiple dates (i.e.: due to an amendment), the date to be reported as the Commencement Date is the date when service began pursuant to the most recent amendment to the terms reported in the Contract Data section of the EQR.³

³ Order 2001-H, Data Dictionary at Field 22. There were no requests for rehearing or appeal filed in response to Order No. 2001-H.

6. On February 26, 2008, the Commission held an EQR Technical Conference to “review the EQR Data Dictionary and address questions from EQR users.” ⁴ During this technical conference, Contract Commencement Date was a topic of considerable discussion.

⁴ See Notice of Electric Quarterly Reports Technical Conference, January 7, 2008 (http://www.ferc.gov/EventCalendar/Files/20080108075834-RM01-8-000TC.pdf).

7. On March 3, 2008, the Commission issued notice of a proposal to revise the EQR Data Dictionary to clarify the requirement to report all ancillary service transactions, consistent with the Commission's decision in Order No. 697 ⁵ that information about third party sales of ancillary services at market-based rates should be reported in EQR filings, rather than being reported on a separate OASIS-like Internet site.⁶

⁵ Market-Based Rates for Wholesale Sales of Electric Energy, Capacity and Ancillary Services by Public Utilities, Order No. 697, 72 FR 39904 (July 20, 2007), FERC Stats. & Regs. ¶ 31,252 (June 21, 2007), clarifying order, 121 FERC ¶ 61,260 (2007).

⁶ Revised Public Utility Filing Requirements for Electric Quarterly Reports, 73 FR 12983 (Mar. 11, 2008), FERC Stats. & Regs. ¶ 35,557 (Mar. 3, 2008) (March 2008 Notice).

8. On April 10, 2008, in its response to the March 2008 Notice, Edison Electric Institute (EEI) included comments related to the definition of Commencement Date in Field 22.⁷ Those issues are more pertinent to the notice we are issuing in the instant subdocket (i.e., RM08-1-010) than to the March 2008 Notice. We address those comments here.

⁷ EEI Comments, Docket No. RM08-1-009 (filed April 10, 2007).

Discussion

9. In Order No. 2001-H, the Commission clarified the information that should be reported in the Contract Execution Date and Contract Commencement Date fields. The Commission's findings on the information that should be reported in the Contract Execution Date and Contract Commencement Date fields was based on commenters' argument that Contract Execution Date (Field No. 21) should reflect the date the contract was originally signed.

10. In Order No. 2001-G, the Commission determined that the date a contract was “materially amended” was to be reported as the Contract Execution Date. Commenters argued that it would be helpful if, despite contract revisions, the Contract Execution Date would remain the date the contract was first executed, for the entire life of the contract.⁸ It was argued that this would help EQR users understand exactly what contract was being referenced. In response to these concerns, in Order No. 2001-H, the Commission was persuaded to have the Contract Execution Date stay unchanged for the life of the contract.⁹ In addition, given the Commission's interest in tracking the date of contract revisions, Order No. 2001-H provided that amendment dates would be reported in the Contract Commencement Date field. Thus, the Commission determined in Order No. 2001-H that Contract Commencement Date should report “[t]he date the terms of the contract reported in the EQR were effective.” ¹⁰ The terms of each contract reported in the EQR are represented by the thirty-one fields in each record of the Contract Data Section. The Commission determined that any changes in the reporting of these thirty-one fields would require a change in the Contract Commencement Date field.

⁸ See Order No. 2001-H at P 8-9.

⁹ Id. at P 10.

¹⁰ Id. at Data Dictionary, Field 22.

11. At the February 2008 Technical Conference, Commission staff highlighted for EQR users the import of the changes adopted by the Commission in Order Nos. 2001-G and 2001-H. Although Order No. 2001-H was unchallenged when issued, some filers expressed concern at the February 2008 Technical Conference about the portion of the definition of Contract Commencement Date that describes using “the date when service began pursuant to the most recent amendment.” In addition, several participants were concerned that it would be difficult to identify the exact date when “service” begins.

12. The Contract Commencement Date is intended to reflect the effective date of either the contract or the most recent amendment. The language in question was added for clarity in two respects. First, where no effective date is provided in the contract or the amendment, the EQR filer should use the date service began under the contract as a substitute. Second, if there have been a number of amendments to the contract, the filer should use the date of the amendment that accounted for the most recent change in the terms reported in the EQR.

13. In its comments on the March 2008 Notice, EEI encouraged the Commission to confirm that Field 22 needs to be completed in conformance with the new definition only for contracts amended after January 1, 2008. EEI also suggests that the Commission should refine the definition of Contract Commencement Date so that revisions to Customer Company Name, Company DUNS Number, or Customer DUNS Number would not trigger a need for a revised Contract Commencement Date. EEI also suggests that Field 22 be given a different name that would better reflect the information that would be reported in this field.¹¹

¹¹ EEI suggests that Field 22 be labeled as “Latest Modification Date.”

14. As a result of the discussions at the EQR Technical Conference and the points raised in the EEI comments in Docket No. RM01-8-009, the Commission invites comments on the following proposed definition of Contract Commencement Date:

The date the terms of the contract reported in the Contract Products section of the EQR (Field Nos. 26 through 45) were effective. If the terms reported in the Contract Data section of the EQR became effective on multiple dates (i.e.: due to one or more amendments), the date to be reported as the Commencement Date is the date the most recent amendment became effective. If the contract or the most recent reported amendment does not have an effective date, the date when service began pursuant to the contract or most recent reported amendment may be used. If the terms of the contract reported in the Contract Products section have not been amended since January 1, 2008, the initial date the contract became effective may be used.

15. The new definition clarifies the Commission's intention regarding the effective date of amendment. It also limits the types of changes that would require a new date to those affecting the products and services under the contract (the terms provided in Field Nos. 26 through 45); changes in the name of the counterparties to the contract, Field Nos. 15 and 16, for example, are not included. The new definition also allows the original contract commencement date to be used if the contract has not been amended since January 1, 2008, to simplify compliance with the revised requirement.

16. The Commission also invites comments regarding renaming Field 22 to “Commencement Date of Contract Terms” to reflect this revised definition.

Comment Procedures

17. The Commission invites interested persons to submit comments on the matters and issues proposed in this notice, including any related matters or alternative proposals that commenters may wish to discuss. Comments are due June 27, 2008. Comments must refer to Docket No. RM01-8-010, and must include the commenter's name, the organization they represent, if applicable, and their address. Comments may be filed either in electronic or paper format.

18. Comments may be filed electronically via the eFiling link on the Commission's Web site at http://www.ferc.gov. The Commission accepts most standard word processing formats and commenters may attach additional files with supporting information in certain other file formats. Commenters filing electronically do not need to make a paper filing. Commenters that are not able to file comments electronically must send an original and 14 copies of their comments to: Federal Energy Regulatory Commission, Secretary of the Commission, 888 First Street, NE., Washington, DC 20426.

19. All comments will be placed in the Commission's public files and may be viewed, printed, or downloaded remotely as described in the Document Availability section below. Commenters on this proposal are not required to serve copies of their comments on other commenters.

Document Availability

20. In addition to publishing the full text of this document in the Federal Register, the Commission provides all interested persons an opportunity to view and/or print the contents of this document via the Internet through the Commission's Home Page (http://www.ferc.gov) and in the Commission's Public Reference Room during normal business hours (8:30 a.m. to 5 p.m. Eastern time) at 888 First Street, NE., Room 2A, Washington, DC 20426.

21. From the Commission's Home Page on the Internet, this information is available in the eLibrary. The full text of this document is available in the eLibrary both in PDF and Microsoft Word format for viewing, printing, and/or downloading. To access this document in eLibrary, type the docket number excluding the last three digits of this document in the docket number field.

22. User assistance is available for eLibrary and the Commission's Web site during our normal business hours. For assistance contact FERC Online Support at FERCOnlineSupport@ferc.gov or toll-free at (866) 208-3676, or for TTY, contact (202) 502-8659.

By direction of the Commission.
Kimberly D. Bose,
Secretary.

Attachment A—Proposed Revisions to Electric Quarterly Report Data Dictionary Version 1.1 (issued December 21, 2007)

EQR Data Dictionary
Field # | Field | Required | Value | Definition
ID Data
1 | Filer Unique Identifier | ✓ | FR1 | (Respondent)—An identifier (i.e., “FR1”) used to designate a record containing Respondent identification information in a comma-delimited (csv) file that is imported into the EQR filing. Only one record with the FR1 identifier may be imported into an EQR for a given quarter.
1 | Filer Unique Identifier | ✓ | FS# (where “#” is an integer) | (Seller)—An identifier (e.g., “FS1”, “FS2”) used to designate a record containing Seller identification information in a comma-delimited (csv) file that is imported into the EQR filing. One record for each seller company may be imported into an EQR for a given quarter.
1 | Filer Unique Identifier | ✓ | FA1 | (Agent)—An identifier (i.e., “FA1”) used to designate a record containing Agent identification information in a comma-delimited (csv) file that is imported into the EQR filing. Only one record with the FA1 identifier may be imported into an EQR for a given quarter.
2 | Company Name | ✓ | Unrestricted text (100 characters) | (Respondent)—The name of the company taking responsibility for complying with the Commission's regulations related to the EQR.
2 | Company Name | ✓ | Unrestricted text (100 characters) | (Seller)—The name of the company that is authorized to make sales as indicated in the company's FERC tariff(s). This name may be the same as the Company Name of the Respondent.
2 | Company Name | ✓ | Unrestricted text (100 characters) | (Agent)—The name of the entity completing the EQR filing. The Agent's Company Name need not be the name of the company under Commission jurisdiction.
3 | Company DUNS Number | for Respondent and Seller | Nine digit number | The unique nine digit number assigned by Dun and Bradstreet to the company identified in Field Number 2.
4 | Contact Name | ✓ | Unrestricted text (50 characters) | (Respondent)—Name of the person at the Respondent's company taking responsibility for compliance with the Commission's EQR regulations.
4 | Contact Name | ✓ | Unrestricted text (50 characters) | (Seller)—The name of the contact for the company authorized to make sales as indicated in the company's FERC tariff(s). This name may be the same as the Contact Name of the Respondent.
4 | Contact Name | ✓ | Unrestricted text (50 characters) | (Agent)—Name of the contact for the Agent, usually the person who prepares the filing.
5 | Contact Title | ✓ | Unrestricted text (50 characters) | Title of contact identified in Field Number 4.
6 | Contact Address | ✓ | Unrestricted text | Street address for contact identified in Field Number 4.
7 | Contact City | ✓ | Unrestricted text (30 characters) | City for the contact identified in Field Number 4.
8 | Contact State | ✓ | Unrestricted text (2 characters) | Two character state or province abbreviations for the contact identified in Field Number 4.
9 | Contact Zip | ✓ | Unrestricted text (10 characters) | Zip code for the contact identified in Field Number 4.
10 | Contact Country Name | ✓ | CA—Canada, MX—Mexico, US—United States, UK—United Kingdom | Country (USA, Canada, Mexico, or United Kingdom) for contact address identified in Field Number 4.
11 | Contact Phone | ✓ | Unrestricted text (20 characters) | Phone number of contact identified in Field Number 4.
12 | Contact E-Mail | ✓ | Unrestricted text | E-mail address of contact identified in Field Number 4.
13 | Filing Quarter | ✓ | YYYYMM | A six digit reference number used by the EQR software to indicate the quarter and year of the filing for the purpose of importing data from csv files. The first 4 numbers represent the year (e.g. 2007). The last 2 numbers represent the last month of the quarter (e.g., 03=1st quarter; 06=2nd quarter, 09=3rd quarter, 12=4th quarter).
Contract Data
14 | Contract Unique ID | ✓ | An integer proceeded by the letter “C” (only used when importing contract data) | An identifier beginning with the letter “C” and followed by a number (e.g., “C1”, “C2”) used to designate a record containing contract information in a comma-delimited (csv) file that is imported into the EQR filing. One record for each contract product may be imported into an EQR for a given quarter.
15 | Seller Company Name | ✓ | Unrestricted text (100 characters) | The name of the company that is authorized to make sales as indicated in the company's FERC tariff(s). This name must match the name provided as a Seller's “Company Name” in Field Number 2 of the ID Data (Seller Data).
16 | Customer Company Name | ✓ | Unrestricted text (70 characters) | The name of the counterparty.
17 | Customer DUNS Number | ✓ | Nine digit number | The unique nine digit number assigned by Dun and Bradstreet to the company identified in Field Number 16.
18 | Contract Affiliate | ✓ | Y (Yes), N (No) | The customer is an affiliate if it controls, is controlled by or is under common control with the seller. This includes a division that operates as a functional unit. A customer of a seller who is an Exempt Wholesale Generator may be defined as an affiliate under the Public Utility Holding Company Act and the FPA.
19 | FERC Tariff Reference | ✓ | Unrestricted text (60 characters) | The FERC tariff reference cites the document that specifies the terms and conditions under which a Seller is authorized to make transmission sales, power sales or sales of related jurisdictional services at cost-based rates or at market-based rates. If the sales are market-based, the tariff that is specified in the FERC order granting the Seller Market Based Rate Authority must be listed.
20 | Contract Service Agreement ID | ✓ | Unrestricted text (30 characters) | Unique identifier given to each service agreement that can be used by the filing company to produce the agreement, if requested. The identifier may be the number assigned by FERC for those service agreements that have been filed with and accepted by the Commission, or it may be generated as part of an internal identification system.
21 | Contract Execution Date | ✓ | YYYYMMDD | The date the contract was signed. If the parties signed on different dates, use the most recent date signed.
22 | Commencement Date of Contract Terms | ✓ | YYYYMMDD | The date the terms of the contract reported in the Contract Products section of the EQR (Field Nos. 26 through 45) were effective. If the terms reported in the Contract Data section of the EQR became effective on multiple dates (i.e.: due to one or more amendments), the date to be reported as the Commencement Date is the date the most recent amendment became effective. If the contract or the most recent reported amendment does not have an effective date, the date when service began pursuant to the contract or most recent amendment may be used. If the terms of the contract reported in the Contract Products section have not been amended since January 1, 2008, the initial date the contract became effective may be used.
23 | Contract Termination Date | If specified in the contract | YYYYMMDD | The date that the contract expires.
24 | Actual Termination Date Extension | If contract terminated | YYYYMMDD | The date the contract actually terminates.
25 | Provision Description | ✓ | Unrestricted text | Description of terms that provide for the continuation of the contract.
26 | Class Name | ✓ |  | See definitions of each class name below.
26 | Class Name | ✓ | F—Firm | For transmission sales, a service or product that always has priority over non-firm service. For power sales, a service or product that is not interruptible for economic reasons.
26 | Class Name | ✓ | NF—Non-firm | For transmission sales, a service that is reserved and/or scheduled on an as-available basis and is subject to curtailment or interruption at a lesser priority compared to Firm service. For an energy sale, a service or product for which delivery or receipt of the energy may be interrupted for any reason or no reason, without liability on the part of either the buyer or seller.
26 | Class Name | ✓ | UP—Unit Power Sale | Designates a dedicated sale of energy and capacity from one or more than one specified generation unit(s).
26 | Class Name | ✓ | N/A—Not Applicable | To be used only when the other available Class Names do not apply.
27 | Term Name | ✓ | LT—Long Term, ST—Short Term, N/A—Not Applicable | Contracts with durations of one year or greater are long-term. Contracts with shorter durations are short-term.
28 | Increment Name | ✓ |  | See definitions for each increment below.
28 | Increment Name | ✓ | H—Hourly | Terms of the contract (if specifically noted in the contract) set for up to 6 consecutive hours (≤6 consecutive hours).
28 | Increment Name | ✓ | D—Daily | Terms of the contract (if specifically noted in the contract) set for more than 6 and up to 60 consecutive hours (>6 and ≤60 consecutive hours).
28 | Increment Name | ✓ | W—Weekly | Terms of the contract (if specifically noted in the contract) set for over 60 consecutive hours and up to 168 consecutive hours (>60 and <168 consecutive hours).
28 | Increment Name | ✓ | M—Monthly | Terms of the contract (if specifically noted in the contract) set for more than 168 consecutive hours up to, but not including, one year (>168 consecutive hours and <1 year).
28 | Increment Name | ✓ | Y—Yearly | Terms of the contract (if specifically noted in the contract) set for one year or more (≥1 year).
28 | Increment Name | ✓ | N/A—Not Applicable | Terms of the contract do not specify an increment.
29 | Increment Peaking Name | ✓ |  | See definitions for each increment peaking name below.
29 | Increment Peaking Name | ✓ | FP—Full Period | The product described may be sold during those hours designated as on-peak and off-peak in the NERC region of the point of delivery.
29 | Increment Peaking Name | ✓ | OP—Off-Peak | The product described may be sold only during those hours designated as off-peak in the NERC region of the point of delivery.
29 | Increment Peaking Name | ✓ | P—Peak | The product described may be sold only during those hours designated as on-peak in the NERC region of the point of delivery.
29 | Increment Peaking Name | ✓ | N/A—Not Applicable | To be used only when the increment peaking name is not specified in the contract.
30 | Product Type Name | ✓ |  | See definitions for each product type below.
30 | Product Type Name | ✓ | CB—Cost Based | Energy or capacity sold under a FERC-approved cost-based rate tariff.
30 | Product Type Name | ✓ | CR—Capacity Reassignment | An agreement under which a transmission provider sells, assigns or transfers all or portion of its rights to an eligible customer.
30 | Product Type Name | ✓ | MB—Market Based | Energy or capacity sold under the seller's FERC-approved market-based rate tariff.
30 | Product Type Name | ✓ | T—Transmission | The product is sold under a FERC-approved transmission tariff.
30 | Product Type Name | ✓ | Other | The product cannot be characterized by the other product type names.
31 | Product Name | ✓ | See Product Name Table, Appendix A | Description of product being offered.
32 | Quantity | If specified in the contract | Number with up to 4 decimals | Quantity for the contract product identified.
33 | Units | If specified in the contract | See Units Table, Appendix E | Measure stated in the contract for the product sold.
34 | Rate | One of four rate fields (34, 35, 36, or 37) must be included | Number with up to 4 decimals | The charge for the product per unit as stated in the contract.
35 | Rate Minimum | One of four rate fields (34, 35, 36, or 37) must be included | Number with up to 4 decimals | Minimum rate to be charged per the contract, if a range is specified.
36 | Rate Maximum | One of four rate fields (34, 35, 36, or 37) must be included | Number with up to 4 decimals | Maximum rate to be charged per the contract, if a range is specified.
37 | Rate Description | One of four rate fields (34, 35, 36, or 37) must be included | Unrestricted text | Text description of rate. If the rate is currently available on the FERC website, a citation of the FERC Accession Number and the relevant FERC tariff including page number or section may be included instead of providing the entire rate algorithm. If the rate is not available on the FERC website, include the rate algorithm, if rate is calculated. If the algorithm would exceed the 150 character field limit, it may be provided in a descriptive summary (including bases and methods of calculations) with a detailed citation of the relevant FERC tariff including page number and section. If more than 150 characters are required, the contract product may be repeated in a subsequent line of data until the rate is adequately described.
38 | Rate Units | If specified in the contract | See Rate Units Table, Appendix F | Measure stated in the contract for the product sold.
39 | Point of Receipt Balancing Authority (PORBA) | If specified in the contract | See Balancing Authority Table, Appendix B | The registered NERC Balancing Authority (formerly called NERC Control Area) where service begins for a transmission or transmission-related jurisdictional sale. The Balancing Authority will be identified with the abbreviation used in OASIS applications. If receipt occurs at a trading hub specified in the EQR software, the term “Hub” should be used.
40 | Point of Receipt Specific Location (PORSL) | If specified in the contract | Unrestricted text (50 characters). If “HUB” is selected for PORCA, see Hub Table, Appendix C | The specific location at which the product is received if designated in the contract. If receipt occurs at a trading hub, a standardized hub name must be used. If more points of receipt are listed in the contract than can fit into the 50 character space, a description of the collection of points may be used. “Various,” alone, is unacceptable unless the contract itself uses that terminology.
41 | Point of Delivery Balancing Authority (PODBA) | If specified in the contract | See Balancing Authority Table, Appendix B | The registered NERC Balancing Authority (formerly called NERC Control Area) where a jurisdictional product is delivered and/or service ends for a transmission or transmission-related jurisdictional sale. The Balancing Authority will be identified with the abbreviation used in OASIS applications. If delivery occurs at the interconnection of two control areas, the control area that the product is entering should be used. If delivery occurs at a trading hub specified in the EQR software, the term “Hub” should be used.
42 | Point of Delivery Specific Location (PODSL) | If specified in the contract | Unrestricted text (50 characters). If “HUB” is selected for PODCA, see Hub Table, Appendix C | The specific location at which the product is delivered if designated in the contract. If receipt occurs at a trading hub, a standardized hub name must be used.
43 | Begin Date | If specified in the contract | YYYYMMDDHHMM | First date for the sale of the product at the rate specified.
44 | End Date | If specified in the contract | YYYYMMDDHHMM | Last date for the sale of the product at the rate specified.
45 | Time Zone | ✓ | See Time Zone Table, Appendix D | The time zone in which the sales will be made under the contract.
Transaction Data
46 | Transaction Unique ID | ✓ | An integer proceeded by the letter “T” (only used when importing transaction data) | An identifier beginning with the letter “T” and followed by a number (e.g., “T1”, “T2”) used to designate a record containing transaction information in a comma-delimited (csv) file that is imported into the EQR filing. One record for each transaction record may be imported into an EQR for a given quarter. A new transaction record must be used every time a price changes in a sale.
47 | Seller Company Name | ✓ | Unrestricted text (100 Characters) | The name of the company that is authorized to make sales as indicated in the company's FERC tariff(s). This name must match the name provided as a Seller's “Company Name” in Field 2 of the ID Data (Seller Data).
48 | Customer Company Name | ✓ | Unrestricted text (70 Characters) | The name of the counterparty.
49 | Customer DUNS Number | ✓ | Nine digit number | The unique nine digit number assigned by Dun and Bradstreet to the counterparty to the contract.
50 | FERC Tariff Reference | ✓ | Unrestricted text (60 Characters) | The FERC tariff reference cites the document that specifies the terms and conditions under which a Seller is authorized to make transmission sales, power sales or sales of related jurisdictional services at cost-based rates or at market-based rates. If the sales are market-based, the tariff that is specified in the FERC order granting the Seller Market Based Rate Authority must be listed.
51 | Contract Service Agreement ID | ✓ | Unrestricted text (30 Characters) | Unique identifier given to each service agreement that can be used by the filing company to produce the agreement, if requested. The identifier may be the number assigned by FERC for those service agreements that have been filed and approved by the Commission, or it may be generated as part of an internal identification system.
52 | Transaction Unique Identifier | ✓ | Unrestricted text (24 Characters) | Unique reference number assigned by the seller for each transaction.
53 | Transaction Begin Date | ✓ | YYYYMMDDHHMM (csv import), MMDDYYYYHHMM (manual entry) | First date and time the product is sold during the quarter.
54 | Transaction End Date | ✓ | YYYYMMDDHHMM (csv import), MMDDYYYYHHMM (manual entry) | Last date and time the product is sold during the quarter.
55 | Time Zone | ✓ | See Time Zone Table, Appendix D | The time zone in which the sales will be made under the contract.
56 | Point of Delivery Balancing Authority (PODBA) | ✓ | See Balancing Authority Table, Appendix B | The registered NERC Balancing Authority (formerly called NERC Control Area) abbreviation used in OASIS applications.
57 | Point of Delivery Specific Location (PODSL) | ✓ | Unrestricted text (50 characters). If “HUB” is selected for PODBA, see Hub Table, Appendix C | The specific location at which the product is delivered. If receipt occurs at a trading hub, a standardized hub name must be used.
58 | Class Name | ✓ |  | See class name definitions below.
58 | Class Name | ✓ | F—Firm | A sale, service or product that is not interruptible for economic reasons.
58 | Class Name | ✓ | NF—Non-firm | A sale for which delivery or receipt of the energy may be interrupted for any reason or no reason, without liability on the part of either the buyer or seller.
58 | Class Name | ✓ | UP—Unit Power Sale | Designates a dedicated sale of energy and capacity from one or more than one specified generation unit(s).
58 | Class Name | ✓ | BA—Billing Adjustment | Designates an incremental material change to one or more transactions due to a change in settlement results. “BA” may be used in a refiling after the next quarter's filing is due to reflect the receipt of new information. It may not be used to correct an inaccurate filing.
58 | Class Name | ✓ | N/A—Not Applicable | To be used only when the other available class names do not apply.
59 | Term Name | ✓ | LT—Long Term, ST—Short Term, N/A—Not Applicable | Power sales transactions with durations of one year or greater are long-term. Transactions with shorter durations are short-term.
60 | Increment Name | ✓ |  | See increment name definitions below.
60 | Increment Name | ✓ | H—Hourly | Terms of the particular sale set for up to 6 consecutive hours (≤ 6 consecutive hours) Includes LMP based sales in ISO/RTO markets.
60 | Increment Name | ✓ | D—Daily | Terms of the particular sale set for more than 6 and up to 60 consecutive hours (>6 and ≤ 60 consecutive hours) Includes sales over a peak or off-peak block during a single day.
60 | Increment Name | ✓ | W—Weekly | Terms of the particular sale set for over 60 consecutive hours and up to 168 consecutive hours (>60 and ≤ 168 consecutive hours). Includes sales for a full week and sales for peak and off-peak blocks over a particular week.
60 | Increment Name | ✓ | M—Monthly | Terms of the particular sale set for set for more than 168 consecutive hours up to, but not including, one year (>168 consecutive hours and < 1 year). Includes sales for full month or multi-week sales during a given month.
60 | Increment Name | ✓ | Y—Yearly | Terms of the particular sale set for one year or more (≥ 1 year). Includes all long-term contracts with defined pricing terms (fixed-price, formula, or index).
60 | Increment Name | ✓ | N/A—Not Applicable | To be used only when other available increment names do not apply.
61 | Increment Peaking Name | ✓ |  | See definitions for increment peaking below.
61 | Increment Peaking Name | ✓ | FP—Full Period | The product described was sold during Peak and Off-Peak hours.
61 | Increment Peaking Name | ✓ | OP—Off-Peak | The product described was sold only during those hours designated as off-peak in the NERC region of the point of delivery.
61 | Increment Peaking Name | ✓ | P—Peak | The product described was sold only during those hours designated as on-peak in the NERC region of the point of delivery.
61 | Increment Peaking Name | ✓ | N/A—Not Applicable | To be used only when the other available increment peaking names do not apply.
62 | Product Name | ✓ | See Product Names, Table, Appendix A | Description of product being offered.
63 | Transaction Quantity | ✓ | Number with up to 4 decimals | The quantity of the product in this transaction.
64 | Price | ✓ | Number with up to 6 decimals | Actual price charged for the product per unit. The price reported cannot be averaged or otherwise aggregated.
65 | Rate Units | ✓ | See Rate Units Table, Appendix F | Measure appropriate to the price of the product sold.
66 | Total Transmission Charge | ✓ | Number with up to 2 decimals | Payments received for transmission services when explicitly identified.
67 | Total Transaction Charge | ✓ | Number with up to 2 decimals | Transaction Quantity (Field 63) times Price (Field 64) plus Total Transmission Charge (Field 66).

EQR Data Dictionary
Product Name | Contract product | Transaction product | Definition
Appendix A. Product Names
BLACK START SERVICE | ✓ | ✓ | Service available after a system-wide blackout where a generator participates in system restoration activities without the availability of an outside electric supply (ancillary Service).
BOOKED OUT POWER |  | ✓ | Energy or capacity contractually committed bilaterally for delivery but not actually delivered due to some offsetting or countervailing trade (Transaction only).
CAPACITY | ✓ | ✓ | A quantity of demand that is charged on a $/KW or $/MW basis.
CUSTOMER CHARGE | ✓ | ✓ | Fixed contractual charges assessed on a per customer basis that could include billing service.
DIRECT ASSIGNMENT FACILITIES CHARGE | ✓ |  | Charges for facilities or portions of facilities that are constructed or used for the sole use/benefit of a particular customer.
EMERGENCY ENERGY | ✓ |  | Contractual provisions to supply energy or capacity to another entity during critical situations.
ENERGY | ✓ | ✓ | A quantity of electricity that is sold or transmitted over a period of time.
ENERGY IMBALANCE | ✓ | ✓ | Service provided when a difference occurs between the scheduled and the actual delivery of energy to a load obligation.
EXCHANGE | ✓ | ✓ | Transaction whereby the receiver accepts delivery of energy for a supplier's account and returns energy at times, rates, and in amounts as mutually agreed if the receiver is not an RTO/ISO.
FUEL CHARGE | ✓ | ✓ | Charge based on the cost or amount of fuel used for generation.
GRANDFATHERED BUNDLED | ✓ | ✓ | Services provided for bundled transmission, ancillary services and energy under contracts effective prior to Order No. 888's OATTs.
INTERCONNECTION AGREEMENT | ✓ |  | Contract that provides the terms and conditions for a generator, distribution system owner, transmission owner, transmission provider, or transmission system to physically connect to a transmission system or distribution system.
MEMBERSHIP AGREEMENT | ✓ |  | Agreement to participate and be subject to rules of a system operator.
MUST RUN AGREEMENT | ✓ |  | An agreement that requires a unit to run.
NEGOTIATED-RATE TRANSMISSION | ✓ | ✓ | Transmission performed under a negotiated rate contract (applies only to merchant transmission companies).
NETWORK | ✓ |  | Transmission service under contract providing network service.
NETWORK OPERATING AGREEMENT | ✓ |  | An executed agreement that contains the terms and conditions under which a network customer operates its facilities and the technical and operational matters associated with the implementation of network integration transmission service.
OTHER | ✓ | ✓ | Product name not otherwise included.
POINT-TO-POINT AGREEMENT | ✓ |  | Transmission service under contract between specified Points of Receipt and Delivery.
REACTIVE SUPPLY & VOLTAGE CONTROL | ✓ | ✓ | Production or absorption of reactive power to maintain voltage levels on transmission systems (Ancillary Service).
REAL POWER TRANSMISSION LOSS | ✓ | ✓ | The loss of energy, resulting from transporting power over a transmission system.
REGULATION & FREQUENCY RESPONSE | ✓ | ✓ | Service providing for continuous balancing of resources (generation and interchange) with load, and for maintaining scheduled interconnection frequency by committing on-line generation where output is raised or lowered and by other non-generation resources capable of providing this service as necessary to follow the moment-by-moment changes in load (Ancillary Service).
REQUIREMENTS SERVICE | ✓ | ✓ | Firm, load-following power supply necessary to serve a specified share of customer's aggregate load during the term of the agreement. Requirements service may include some or all of the energy, capacity and ancillary service products. (If the components of the requirements service are priced separately, they should be reported separately in the transactions tab.)
SCHEDULE SYSTEM CONTROL & DISPATCH | ✓ | ✓ | Scheduling, confirming and implementing an interchange schedule with other Balancing Authorities, including intermediary Balancing Authorities providing transmission service, and ensuring operational security during the interchange transaction (Ancillary Service).
SPINNING RESERVE | ✓ | ✓ | Unloaded synchronized generating capacity that is immediately responsive to system frequency and that is capable of being loaded in a short time period or non-generation resources capable of providing this service (Ancillary Service).
SUPPLEMENTAL RESERVE | ✓ | ✓ | Service needed to serve load in the event of a system contingency, available with greater delay than SPINNING RESERVE. This service may be provided by generating units that are on-line but unloaded, by quick-start generation, or by interruptible load or other non-generation resources capable of providing this service (Ancillary Service).
SYSTEM OPERATING AGREEMENTS | ✓ |  | An executed agreement that contains the terms and conditions under which a system or network customer shall operate its facilities and the technical and operational matters associated with the implementation of network.
TOLLING ENERGY | ✓ | ✓ | Energy sold from a plant whereby the buyer provides fuel to a generator (seller) and receives power in return for pre-established fees.
TRANSMISSION OWNERS AGREEMENT | ✓ |  | The agreement that establishes the terms and conditions under which a transmission owner transfers operational control over designated transmission facilities.
UPLIFT | ✓ | ✓ | A make-whole payment by an RTO/ISO to a utility.

EQR Data Dictionary
Balancing authority | Abbreviation | Outside US *
Appendix B. Balancing Authority
AESC, LLC—Wheatland CIN | AEWC
Alabama Electric Cooperative, Inc. | AEC
Alberta Electric System Operator | AESO | ✓
Alliant Energy Corporate Services, LLC—East | ALTE
Alliant Energy Corporate Services, LLC—West | ALTW
Ameren Transmission | AMRN
Ameren Transmission. Illinois | AMIL
Ameren Transmission. Missouri | AMMO
American Transmission Systems, Inc. | FE
Aquila Networks—Kansas | WPEK
Aquila Networks—Missouri Public Service | MPS
Aquila Networks—West Plains Dispatch | WPEC
Arizona Public Service Company | AZPS
Associated Electric Cooperative, Inc. | AECI
Avista Corp. | AVA
Batesville Balancing Authority | BBA
Big Rivers Electric Corp. | BREC
Board of Public Utilities | KACY
Bonneville Power Administration Transmission | BPAT
British Columbia Transmission Corporation | BCTC | ✓
California Independent System Operator | CISO
Carolina Power & Light Company—CPLW | CPLW
Carolina Power and Light Company—East | CPLE
Central and Southwest | CSWS
Central Illinois Light Co | CILC
Chelan County PUD | CHPD
Cinergy Corporation | CIN
City of Homestead | HST
City of Independence P & L Dept. | INDN
City of Tallahassee | TAL
City Water Light & Power | CWLP
Cleco Power LLC | CLEC
Columbia Water & Light | CWLD
Comision Federal de Electricidad | CFE | ✓
Constellation Energy Control and Dispatch—Arkansas | PUPP
Constellation Energy Control and Dispatch—City of Benton, AR | BUBA
Constellation Energy Control and Dispatch—City of Ruston, LA | DERS
Constellation Energy Control and Dispatch—Conway, Arkansas | CNWY
Constellation Energy Control and Dispatch—Gila River | GRMA
Constellation Energy Control and Dispatch—Harquehala | HGMA
Constellation Energy Control and Dispatch—North Little Rock, AR | DENL
Constellation Energy Control and Dispatch—West Memphis, Arkansas | WMUC
Dairyland Power Cooperative | DPC
DECA, LLC—Arlington Valley | DEAA
Duke Energy Corporation | DUK
East Kentucky Power Cooperative, Inc. | EKPC
El Paso Electric | EPE
Electric Energy, Inc. | EEI
Empire District Electric Co., The | EDE
Entergy | EES
ERCOT ISO | ERCO
Florida Municipal Power Pool | FMPP
Florida Power & Light | FPL
Florida Power Corporation | FPC
Gainesville Regional Utilities | GVL
Georgia System Operations Corporation | GSOC
Georgia Transmission Corporation | GTC
Grand River Dam Authority | GRDA
Grant County PUD No. 2 | GCPD
Great River Energy | GRE
Great River Energy | GREC
Great River Energy | GREN
Great River Energy | GRES
GridAmerica | GA
Hoosier Energy | HE
Hydro-Quebec, TransEnergie | HQT | ✓
Idaho Power Company | IPCO
Illinois Power Co. | IP
Illinois Power Co. | IPRV
Imperial Irrigation District | IID
Indianapolis Power & Light Company | IPL
ISO New England Inc. | ISNE
JEA | JEA
Kansas City Power & Light, Co | KCPL
Lafayette Utilities System | LAFA
LG & E Energy Transmission Services | LGEE
Lincoln Electric System | LES
Los Angeles Department of Water and Power | LDWP
Louisiana Energy & Power Authority | LEPA
Louisiana Generating, LLC | LAGN
Madison Gas and Electric Company | MGE
Manitoba Hydro Electric Board, Transmission Services | MHEB | ✓
Michigan Electric Coordinated System | MECS
Michigan Electric Coordinated System—CONS | CONS
Michigan Electric Coordinated System—DECO | DECO
MidAmerican Energy Company | MEC
Midwest ISO | MISO
Minnesota Power, Inc. | MP
Montana-Dakota Utilities Co. | MDU
Muscatine Power and Water | MPW
Nebraska Public Power District | NPPD
Nevada Power Company | NEVP
New Brunswick Power Corporation | NBPC | ✓
New Horizons Electric Cooperative | NHC1
New York Independent System Operator | NYIS
North American Electric Reliability Council | TEST
Northern Indiana Public Service Company | NIPS
Northern States Power Company | NSP
NorthWestern Energy | NWMT
Ohio Valley Electric Corporation | OVEC
Oklahoma Gas and Electric | OKGE
Ontario—Independent Electricity Market Operator | IMO | ✓
OPPD CA/TP | OPPD
Otter Tail Power Company | OTP
P.U.D. No. 1 of Douglas County | DOPD
PacifiCorp-East | PACE
PacifiCorp-West | PACW
PJM Interconnection | PJM
Portland General Electric | PGE
Public Service Company of Colorado | PSCO
Public Service Company of New Mexico | PNM
Puget Sound Energy Transmission | PSEI
Reedy Creek Improvement District | RC
Sacramento Municipal Utility District | SMUD
Salt River Project | SRP
Santee Cooper | SC
SaskPower Grid Control Centre | SPC | ✓
Seattle City Light | SCL
Seminole Electric Cooperative | SEC
Sierra Pacific Power Co.—Transmission | SPPC
South Carolina Electric & Gas Company | SCEG
South Mississippi Electric Power Association | SME
South Mississippi Electric Power Association | SMEE
Southeastern Power Administration—Hartwell | SEHA
Southeastern Power Administration—Russell | SERU
Southeastern Power Administration—Thurmond | SETH
Southern Company Services, Inc. | SOCO
Southern Illinois Power Cooperative | SIPC
Southern Indiana Gas & Electric Co. | SIGE
Southern Minnesota Municipal Power Agency | SMP
Southwest Power Pool | SWPP
Southwestern Power Administration | SPA
Southwestern Public Service Company | SPS
Sunflower Electric Power Corporation | SECI
Tacoma Power | TPWR
Tampa Electric Company | TEC
Tennessee Valley Authority ESO | TVA
Trading Hub | HUB
TRANSLink Management Company | TLKN
Tucson Electric Power Company | TEPC
Turlock Irrigation District | TIDC
Upper Peninsula Power Co. | UPPC
Utilities Commission, City of New Smyrna Beach | NSB
Westar Energy—MoPEP Cities | MOWR
Western Area Power Administration—Colorado-Missouri | WACM
Western Area Power Administration—Lower Colorado | WALC
Western Area Power Administration—Upper Great Plains East | WAUE
Western Area Power Administration—Upper Great Plains West | WAUW
Western Farmers Electric Cooperative | WFEC
Western Resources dba Westar Energy | WR
Wisconsin Energy Corporation | WEC
Wisconsin Public Service Corporation | WPS
Yadkin, Inc. | YAD
* Balancing authorities outside the United States may only be used in the Contract Data section to identify specified receipt/delivery points in jurisdictional transmission contracts.

EQR Data Dictionary
HUB | Definition
Appendix C. Hub
ADHUB | The aggregated Locational Marginal Price (“LMP”) nodes defined by PJM Interconnection, LLC as the AEP/Dayton Hub.
AEPGenHub | The aggregated Locational Marginal Price (“LMP”) nodes defined by PJM Interconnection, LLC as the AEPGenHub.
COB | The set of delivery points along the California-Oregon commonly identified as and agreed to by the counterparties to constitute the COB Hub.
Cinergy (into) | The set of delivery points commonly identified as and agreed to by the counterparties to constitute delivery into the Cinergy balancing authority.
Cinergy Hub (MISO) | The aggregated Elemental Pricing nodes (“Epnodes”) defined by the Midwest Independent Transmission System Operator, Inc., as Cinergy Hub (MISO).
Entergy (into) | The set of delivery points commonly identified as and agreed to by the counterparties to constitute delivery into the Entergy balancing authority.
FE Hub | The aggregated Elemental Pricing nodes (“Epnodes”) defined by the Midwest Independent Transmission System Operator, Inc., as FE Hub (MISO).
Four Corners | The set of delivery points at the Four Corners power plant commonly identified as and agreed to by the counterparties to constitute the Four Corners Hub.
Illinois Hub (MISO) | The aggregated Elemental Pricing nodes (“Epnodes”) defined by the Midwest Independent Transmission System Operator, Inc., as Illinois Hub (MISO).
Mead | The set of delivery points at or near Hoover Dam commonly identified as and agreed to by the counterparties to constitute the Mead Hub.
Michigan Hub (MISO) | The aggregated Elemental Pricing nodes (“Epnodes”) defined by the Midwest Independent Transmission System Operator, Inc., as Michigan Hub (MISO).
Mid-Columbia (Mid-C) | The set of delivery points along the Columbia River commonly identified as and agreed to by the counterparties to constitute the Mid-Columbia Hub.
Minnesota Hub (MISO) | The aggregated Elemental Pricing nodes (“Epnodes”) defined by the Midwest Independent Transmission System Operator, Inc., as Minnesota Hub (MISO).
NEPOOL (Mass Hub) | The aggregated Locational Marginal Price (“LMP”) nodes defined by ISO New England Inc., as Mass Hub.
NIHUB | The aggregated Locational Marginal Price (“LMP”) nodes defined by PJM Interconnection, LLC as the Northern Illinois Hub.
NOB | The set of delivery points along the Nevada-Oregon border commonly identified as and agreed to by the counterparties to constitute the NOB Hub.
NP15 | The set of delivery points north of Path 15 on the California transmission grid commonly identified as and agreed to by the counterparties to constitute the NP15 Hub.
NWMT | The set of delivery points commonly identified as and agreed to by the counterparties to constitute delivery into the Northwestern Energy Montana balancing authority.
PJM East Hub | The aggregated Locational Marginal Price nodes (“LMP”) defined by PJM Interconnection, LLC as the PJM East Hub.
PJM South Hub | The aggregated Locational Marginal Price (“LMP”) nodes defined by PJM Interconnection, LLC as the PJM South Hub.
PJM West Hub | The aggregated Locational Marginal Price (“LMP”) nodes defined by PJM Interconnection, LLC as the PJM Western Hub.
Palo Verde | The switch yard at the Palo Verde nuclear power station west of Phoenix in Arizona. Palo Verde Hub includes the Hassayampa switchyard 2 miles south of Palo Verde.
SOCO (into) | The set of delivery points commonly identified as and agreed to by the counterparties to constitute delivery into the Southern Company balancing authority.
SP15 | The set of delivery points south of Path 15 on the California transmission grid commonly identified as and agreed to by the counterparties to constitute the SP15 Hub.
TVA (into) | The set of delivery points commonly identified as and agreed to by the counterparties to constitute delivery into the Tennessee Valley Authority balancing authority.
ZP26 | The set of delivery points associated with Path 26 on the California transmission grid commonly identified as and agreed to by the counterparties to constitute the ZP26 Hub.

EQR Data Dictionary
Time zone | Definition
Appendix D. Time Zone
AD | Atlantic Daylight
AP | Atlantic Prevailing
AS | Atlantic Standard
CD | Central Daylight
CP | Central Prevailing
CS | Central Standard
ED | Eastern Daylight
EP | Eastern Prevailing
ES | Eastern Standard
MD | Mountain Daylight
MP | Mountain Prevailing
MS | Mountain Standard
NA | Not Applicable
PD | Pacific Daylight
PP | Pacific Prevailing
PS | Pacific Standard
UT | Universal Time

EQR Data Dictionary
Units | Definition
Appendix E. Units
KV | Kilovolt
KVA | Kilovolt Amperes
KVR | Kilovar
KW | Kilowatt
KWH | Kilowatt Hour
KW-DAY | Kilowatt Day
KW-MO | Kilowatt Month
KW-WK | Kilowatt Week
KW-YR | Kilowatt Year
MVAR-YR | Megavar Year
MW | Megawatt
MWH | Megawatt Hour
MW-DAY | Megawatt Day
MW-MO | Megawatt Month
MW-WK | Megawatt Week
MW-YR | Megawatt Year
RKVA | Reactive Kilovolt Amperes
FLAT RATE | Flat Rate

EQR Data Dictionary
Rate units | Definition
Appendix F. Rate Units
$/KV | dollars per kilovolt
$/KVA | dollars per kilovolt amperes
$/KVR | dollars per kilovar
$/KW | dollars per kilowatt
$/KWH | dollars per kilowatt hour
$/KW-DAY | dollars per kilowatt day
$/KW-MO | dollars per kilowatt month
$/KW-WK | dollars per kilowatt week
$/KW-YR | dollars per kilowatt year
$/MW | dollars per megawatt
$/MWH | dollars per megawatt hour
$/MW-DAY | dollars per megawatt day
$/MW-MO | dollars per megawatt month
$/MW-WK | dollars per megawatt week
$/MW-YR | dollars per megawatt year
$/MVAR-YR | dollars per megavar year
$/RKVA | dollars per reactive kilovar amperes
CENTS | cents
CENTS/KVR | cents per kilovolt amperes
CENTS/KWH | cents per kilowatt hour
FLAT RATE | rate not specified in any other units

[FR Doc. E8-11861 Filed 5-27-08; 8:45 am]

BILLING CODE 6717-01-P